DEPARTMENT OF AGRICULTURE

Farm Service Agency

Notice of Request for Approval of a New Information Collection

AGENCY: Farm Service Agency, USDA.

ACTION: Notice and request for comments.

SUMMARY: In accordance with the Paperwork Reduction Act of 1995, this notice announces the intention of the Farm Service Agency (FSA) to request approval to collect information for use in the Land Use Pilot Project. The purpose of this pilot project is to determine the feasibility of offering an alternative method of reporting commodity data. Producers will make required commodity reports by using the Land Use pilot project.

DATES: Comments on this notice must be received on or before June 8, 2001.

FOR FURTHER INFORMATION CONTACT: Contact Rebecca Davis, Production, Emergencies, and Compliance Division, USDA, FSA, STOP 0517, 1400 Independence Avenue, SW., Washington, DC 20250-0517, telephone number (202) 720-9882.

SUPPLEMENTARY INFORMATION: Title: Land Use Pilot Project.

OMB Control Number: 0560-NEW

Type of Request: Approval of a new information collection.

Abstract: This pilot was developed in response to OMB requests to lessen commodity reporting burden on producers. The Land Use Pilot Project modernizes and streamlines the commodity reporting function by lessening customer/producer and Service Center reporting burden while improving efficiency. The reporting method is customer/producer-based and focuses on collecting and maintaining information needed for Service Center program determinations, to serve as a customer/producer resource, and facilitate data sharing partnerships with other governmental and non-governmental entities. The collection process will be accomplished through the use of personal computers at the Service Center, customer/producer's home or at other remote sites. Currently the land use information that is used as a basis for many USDA programs is acquired independently by the various agencies. Data sharing between agencies is often informal and there is little, if any, use of alternative acquisition sources outside of the partner agencies, with the exception of the Risk Management Agency (RMA) obtaining production totals from reinsurance companies. This leads to duplicative measures to obtain and manage information, use of out-dated information and unawareness of existing determination and appeal status. The Land Use Pilot Project provides a national commodity reporting database that can be queried by the Service Center agencies and other USDA agencies and their partners. In addition, this allows greater land use information sharing with agencies such as RMA and Animal and Plant Health Inspection Service (APHIS), that are not part of the USDA Service Centers. The information can also be shared with State and local Governments that need farm or customer/producer-level information.

Additionally, the current system was designed primarily for the original program crops of wheat, corn, grain sorghum, barley and oats. The growth of alternative crops and aquaculture have produced reporting needs that are not met by the attributes associated with these acreage-based crops. The Land Use Project will provide a reliable source of shared land use data that will be flexible enough to capture a wide range of commodity and farming practice variations. Some farming practices performed on the land will be identified but may not be collected without a specific partnership or program requirement necessitating them. Standardizing information will facilitate its use by USDA programs and will provide the capability for the information to be acquired from and used by partners. The user chooses program(s) for which a report is intended. The program selection determines the required commodity attributes to be reported, thus resulting in time savings for both the Service Center and the customer/producer. The process allows commodity reporting through the selection of customer/producer with their associated link(s) to land. Land (farm, tract and common land units (CLUs), formerly known as “fields”) is displayed allowing users to designate, by a “point and click” method, reported commodity locations directly onto a digital map's CLUs. Digital maps may be printed for the producer which will show commodity(ies) reported with associated commodity location. When a commodity is selected which applies to all fields, a “select all” CLU function may be used to eliminate designating individual CLU selection(s). Historical commodity reports (previous year's reports) may be selected to populate CLUs when minimal change is needed (i.e., different commodity report date). In addition to historical commodity selection options, when accessing the current commodity reporting function and selecting a commodity that had been reported during the most recent report, that commodity will automatically populate the previously reported CLUs. Built into this package is an acreage reduction calculator which automatically calculates any deductions as designated by the user which eliminates the need to hand calculate acreage deductions such as sod waterways. Revised and updated commodity tables have been incorporated as an integrated part of the Land Use Pilot Project which has simplified the commodity selection options.

Land Use Project objectives are to:

(1) Provide a reliable source of land use data usable by multiple entities to;

(a) eliminate redundancy capturing and storing data and

(b) develop data standards for Land Use information that allows input and verification of data from multiple sources.

(2) Minimize public and Service Center burden by;

(a) eliminating redundant reporting requirements,

(b) reducing processing time for program applications by automatically populating application fields with previously reported land use data and

(c) selecting the program for which a report is being made. The program selection allows only required commodities to be reported.

(3) Maximize use of geo-spatial and partnership data to reduce producer's acreage and production reporting requirements by;

(a) enabling customers/producers to report land use data for all of their farming interests at any Service Center or alternative reporting site and

(b) re-engineering reporting procedures.

(4) Enhance the reporting process of customer/producer and Service Center personnel by developing alternative customer/producer reporting methods such as web-based and mail-in reporting.

The Land Use Pilot Project requires the customer/producer only to report commodity, acres or units, owner, operator and shares, and planting date and is a drastic departure from the Farm Service Agency's (FSA) historical collection of commodity and land use data.

FSA's approach to collecting this information is to collect only the information needed to support program eligibility and compliance requirements. Three pilot sites chosen for the Land Use Pilot Project are: Okeechobee, Florida; Miami, Kansas; and, The Dalles, Oregon.

Estimate of Burden: Public reporting burden for the Land Use Pilot Project is estimated to average 3.75 minutes per response reflecting a 75 percent decrease in reporting time.

Respondents: Individual customers/producers.

Estimated Number of Respondents: 2340 × 3.75 minutes per response time.

Estimated Number of Responses per Respondent: 1.

Estimated Total Annual Burden on Respondents: 146.25 burden hours times $12.00 per hour = $1755.

Proposed topics for comment include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or techniques or other forms of information technology.

Comments should be sent to the Desk Officer for Agriculture, Office of Information and Regulatory Affairs, Office of Management and Budget, Washington, DC 20503, and to Rebecca Davis, Production, Emergencies, and Compliance Division, USDA, FSA, STOP 0517, 1400 Independence Avenue, SW., Washington, DC 20250-0517, (202) 720-9882. All responses to this notice will be summarized and included in the request for OMB approval. All comments will become a matter of public record.

Signed at Washington, DC, on May 2, 2001.
James R. Little,
Acting Administrator, Farm Service Agency.

[FR Doc. 01-11687 Filed 5-8-01; 8:45 am]

BILLING CODE 3410-05-P